DEPARTMENT OF HEALTH AND HUMAN SERVICES

Centers for Disease Control and Prevention

Draft Guideline for the Prevention of Intravascular Catheter-Related Infections

AGENCY: Centers for Disease Control and Prevention (CDC), Department of Health and Human Services (DHHS).

ACTION: Notice of availability and request for public comment.

SUMMARY: This notice is a request for review of and comment on the Draft Guideline for the Prevention of Intravascular Catheter-Related Infections, available on the following Web site: http://www.cdc.gov/publiccomments/.

This document is for use by infection prevention staff, healthcare epidemiologists, healthcare administrators, nurses, other healthcare providers, and persons responsible for developing, implementing, and evaluating infection prevention and control programs for healthcare settings across the continuum of care. The guideline updates and expands the Guideline for the Prevention of Intravascular Device-Related Infections published in 2002. These guidelines provide evidence-based recommendations for preventing intravascular catheter-related infections.

DATES: Comments must be received on or before December 3, 2009.

ADDRESSES: Comments on the Draft Guideline for the Prevention of Intravascular Catheter-Related Infections should be submitted by e-mail to BSI@cdc.gov or by mail to CDC, Division of Healthcare Quality Promotion, Attn: Resource Center, 1600 Clifton Rd., NE., Mailstop A-31, Atlanta, Georgia 30333; or by fax 404-639-4049.

Dated: October 27, 2009.
Tanja Popovic,
Chief Science Officer, Centers for Disease Control and Prevention.

[FR Doc. E9-26393 Filed 11-2-09; 8:45 am]

BILLING CODE 4163-18-P